DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Disaster Technical Assistance Center Disaster Mental Health Needs Assessment and Customer Satisfaction Survey—NEW

SAMHSA created the SAMHSA Disaster Technical Assistance Center (SAMHSA DTAC) in 2002. SAMHSA DTAC provides technical assistance (TA) to States, Territories, and Federally recognized tribes (hereafter referred to as ‘States’), as well as any behavioral health worker, in response to, and in preparation for, behavioral health (mental health and substance abuse) needs associated with catastrophic events and emergencies, such as natural disasters, bioterrorism, mass criminal victimization, and environmental disasters. In the aftermath of a disaster or other traumatic event, State and local behavioral health agencies can contact SAMHSA DTAC for assistance with the resulting mental health and substance abuse needs. SAMHSA DTAC TA specialists respond by identifying suitable publications and other materials, arranging for the deployment of expert consultants, or coordinating other support services. For Presidentially declared disasters, SAMHSA DTAC assists States that are eligible for a Crisis Counseling Assistance and Training Program (CCP) grant by providing TA related to completing applications, developing a plan of services, and identifying staff needs for the CCP.

SAMHSA is proposing two new data collection efforts: the Disaster Behavioral Health Needs Assessment (DBHNA) and the Customer Satisfaction Survey. The DBHNA will assess the current gaps and needs at the State and local provider levels in disaster behavioral health (DBH) planning and response efforts. The Customer Satisfaction Survey is being conducted to ensure that the TA SAMHSA DTAC provides is on track, applicable, useful, and well received. Both of these proposed data collection efforts will provide feedback on the ongoing needs at the national, State, and local levels and identify areas in which State and local providers require enhanced TA services.

SAMHSA DTAC will be responsible for administering the two data collection instruments and analyzing the data. SAMHSA DTAC will use data from both instruments to inform current and future TA activities and to ensure these activities continue to align with State and local needs.

The components of the data collection are listed and described below, and a summary table of the number of respondents and respondent burden has also been included.

Disaster Behavior Health Needs Assessment. The DBHNA will assist SAMHSA DTAC in identifying jurisdictions that need assistance with integrating behavioral health (which includes both mental health and substance abuse services) into their preparedness plans. SAMHSA DTAC will use the DBHNA to identify gaps and trends in crisis counseling planning across the country and to inform future TA and training for State and local behavioral health authorities so that these gaps can be addressed at the State and local levels. The DBHNA will be administered annually. The information collected will inform the DBH training and TA that SAMHSA DTAC provides. With improved training and TA, SAMHSA DTAC will be better positioned to support States, local providers, and other organizations in their efforts to integrate DBH into “all-hazards” disaster preparedness and response.

There are two versions of the DBHNA: The State/Territory Coordinator Disaster Behavioral Health Needs Assessment and the Local Provider Disaster Behavioral Health Needs Assessment. These DBHNAs will collect information on the current needs and challenges that State coordinators and local providers face when integrating DBH preparedness and response into all-hazards plans. Both versions of the survey will be administered online and will be programmed to include simplified screens and intuitive navigational controls, and both will use branching so that each respondent will be presented with only those questions relevant to his or her State or program.

The State/Territory Coordinator version will be administered to all disaster mental health coordinators, disaster substance abuse coordinators, and DBH coordinators (coordinators responsible for both mental health and substance abuse disaster services) in the 50 States, the U.S. Territories, and the District of Columbia, for a total of 77 participants. Coordinators from the 10 States that have experienced the most federally declared disasters and those from the 10 States that have experienced the fewest federally declared disasters will be asked to provide contact information for up to five local DBH service providers. The local providers from these 20 States will be invited to participate in the Local Provider version (up to a total of 100 local provider participants).

Customer Satisfaction Survey. The Customer Satisfaction Survey will collect data from SAMHSA DTAC customers to ensure that the assistance SAMHSA DTAC provides is effective. Specifically, the Customer Satisfaction Survey will collect the experiences and perspectives of (1) Those who have requested TA (e.g., behavioral health coordinators, project coordinators, local providers) and (2) those who subscribe to SAMHSA DTAC e-communications. The Customer Satisfaction Survey will assess the following: (1) General familiarity with SAMHSA DTAC services and resources; (2) usage of SAMHSA DTAC services and resources; (3) customer satisfaction with SAMHSA DTAC TA, the SAMHSA DTAC Web site, SAMHSA DBHIS resources, and SAMHSA DTAC e-communication resources; and (4) areas for improvement and enhancement of SAMHSA DTAC services and resources.

Participation in the Customer Satisfaction Survey will be solicited from all 50 States, the U.S. Territories, and the District of Columbia. The initial survey administration will include individuals who have contacted SAMHSA DTAC for TA from March 2006 through the month prior to the initial data collection initiation. In addition to identifying SAMHSA DTAC TA requestors from March 2006 to the present, SAMHSA DTAC will identify potential participants from the subscription lists for the e-communications DTAC Bulletin and The Dialogue. Respondents for subsequent administrations of the SAMHSA DTAC Customer Satisfaction Survey will include those who have requested TA in the 3 months prior to administration and those who are subscribed to the DTAC Bulletin or The Dialogue at the time of administration. Internet-based technology will be used to collect data via Web-based surveys and for data entry and management. The average annual respondent burden is estimated below. The DBHNA is an annual data collection. The Customer Satisfaction Survey will be administered once initially, with subsequent quarterly administrations. Table 1 represents the initial data collection and the burden in the following years. These estimates reflect the average annual number of respondents, the average annual number of responses, the time required for each response, and the average annual burden in hours.

Table 1—Annualized Estimate of Respondent Burden
Type of respondent | Instrument | Number of respondents | Number of responses per respondent | Total number of responses | Hours per response per respondent | Total burden hours
State DBH Coordinator | DBHNA (State/Territory Version) | 77 | 1 | 77 | 1.00 | 77.0
Local Provider | DBHNA (Local Provider Version) | 100 | 1 | 100 | 0.50 | 50.0
TA Requestor | DTAC Customer Satisfaction Survey | 250 | 1 | 250 | 0.25 | 62.5
e-Communications Recipient | DTAC Customer Satisfaction Survey | 250 | 1 | 250 | 0.25 | 62.5
Total |  | 677 |  | 677 |  | 252

Written comments and recommendations concerning the proposed information collection should be sent by April 27, 2011 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-7285.

Dated: March 22, 2011.
Elaine Parry,
Director, Office of Management, Technology and Operations.

[FR Doc. 2011-7185 Filed 3-25-11; 8:45 am]

BILLING CODE 4162-20-P